DEPARTMENT OF DEFENSE

Department of the Air Force

Interface Control Document (ICD) Configuration Management Activities

AGENCY: Department of the Air Force, DoD.

ACTION: Notice and Request for Review and Comment.

SUMMARY: This notice informs the public that the NAVSTAR GPS Joint Program Office (JPO) proposes to revise ICD-GPS-200, NAVSTAR GPS Space Segment/Navigation User Interface, for the following items: (1) Removal of all Letters of Exception (LOEs) and incorporation of contents of technical LOEs into the text of ICD-GPS-200; (2) Update of Coordinated Universal Time as maintained by the United States Naval Observatory (UTC (USNO)) time transfer accuracy; (3) Clarification of applicable UTC/GPS-time relationship; (4) Clarification of Table 20-VI. These proposed change items are described in draft Proposed Interface Revision Notice (PIRN), PIRN-200C-005. The draft PIRN can be reviewed at the following web site: http://www.gpsnavstar.com. Select the “GPS Public” tab, then select “DRAFT-PIRN-200C-005 (Public) (PDF).” This notice seeks comments on the changes presented in the draft PIRN.

ADDRESSES: Submit comments to SMC/CZER, 2435 Vela Way, Suite 1613, El Segundo, CA 90245-5500, ATTN: First Lieutenant Reginald C. Victoria. A comment matrix is provided for your convenience at the web site and is the preferred method of comment submittal. Comments may be submitted to the following e-mail address: cmdm@losangeles.af.mil. Comments may also be sent by fax to (310) 363-6387.

DATES: The suspense date for comment submittal is April 20, 2001.

FOR FURTHER INFORMATION CONTACT: Capt. Eric Y. Moore, Configuration Management Processes Coordinator, (310) 363-5117, or First Lieutenant Reginald C. Victoria, ICD-GPS-200C Point of Contact, (310) 363-6329, GPS JPO System Engineering Division, address above.

SUPPLEMENTARY INFORMATION:

Background

The Global Positioning System employs a constellation of 24 satellites to provide continuously transmitted positioning/navigation signals for use with appropriately configured GPS user equipment. The proposed change applies to the interface control document that describes these signals. The civilian and military communities employ the Global Positioning System. All comments and their resolutions will be posted to the web site.

Janet A. Long,
Air Force Federal Register Liaison Officer.

[FR Doc. 01-5700 Filed 3-8-01; 8:45 am]

BILLING CODE 5001-05-P